DEPARTMENT OF TRANSPORTATION

Pipeline and Hazardous Materials Safety Administration

Hazardous Materials: Notice of Applications for Modifications to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before February 26, 2020.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC.

This notice of receipt of applications for special permit is published in accordance with part 107 of the Federal hazardous materials transportation law (49 U.S.C. 5117(b); 49 CFR 1.53(b)).

Issued in Washington, DC, on February 3, 2020.
Donald P. Burger,
Chief, General Approvals and Permits Branch.

Application No. | Applicant | Regulation(s) affected | Nature of the special permits thereof
Special Permits Data
14951-M | Hexagon Lincoln, LLC | 173.301(f), 173.302(a) | To modify the special permit to authorize permitted cylinders to have an “in-service date” on their labels. This date would be the date in which the cylinder was released from the Hexagon inventory and placed in the possession of the end user. (modes 1, 2, 3).
15347-M | Raytheon Missile Systems Co | 173.301, 173.302a | To modify the special permit to authorize passenger carrying aircraft as a mode of transportation. (modes 1, 2, 3, 4, 5).
16560-M | Lightstore, Inc | 173.302(a) | To modify the special permit to authorize additional 2.1 and 2.2 hazmat and to authorize an increase in the allowable maximum working pressure of certain cylinders. (modes 1, 2, 3).
20324-M | General Dynamics Mission Systems, Inc | 172.101(j), 173.185(a)(1)(i) | To modify the special permit to authorize the transportation in commerce of slightly modified designs of approved batteries and cells. (mode 4).
20474-M | Space Exploration Technologies Corp | 172.300, 172.400, 173.1 | To modify the special permit to authorize an increase in tank pressure for certain propellant tanks. (modes 1, 3).
20861-M | Ayalytical Instruments Inc | 173.120(c) | To modify the special permit to authorize an additional ASTM Standard Test Method D6450. (modes 1, 2, 3, 4, 5).
20902-M | Eastern Upper Peninsula Transportation Authority | 176.164(e) | To modify the special permit to authorize additional hazmat. (mode 3).

[FR Doc. 2020-02702 Filed 2-10-20; 8:45 am]

BILLING CODE 4909-60-P